DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on the respondents, including through the use of automated collection techniques or other forms of information technology.

Proposed Project: Community Mental Health Services Block Grant Application Guidance and Instruction, FY 2008-2010 (OMB No. 0930-0168)—Revisions

Sections 1911 through 1920 of the Public Health Service Act (42 U.S.C. 300x through 300x-9) provide for annual allotments to assist States to establish or expand an organized, community-based system of care for adults with serious mental illnesses and children with serious emotional disturbances. Under these provisions of the law, States may receive allotments only after an application is submitted and approved by the Secretary of the Department of Health and Human Services.

For the FY 2008-2010 Community Mental Health Services Block Grant application cycle, SAMHSA will provide States guidance and instructions to guide development of comprehensive State applications/plans and implementation reports. Proposed revisions to the guidance include: (1) The integration of mental health transformation as a guiding principle in the development of State mental health plans. State plans for FY 2008-2010 will describe State mental health transformation efforts and activities within the context of the five (5) legislative criteria, identify mental health transformation activities funded by the MHBG and other State funding sources, identify activities of the State mental health planning council that contribute to and support State transformation efforts, include one State transformation performance indicator in the plan, and include a description of the services provided to older adults under criterion 4 of the State's plan. (2) The introduction of the Web Block Grant Application System (WebBGAS). WebBGAS enables States to submit applications/plans, and implementation reports electronically thus reducing the burden of paperwork required for submission, revision, and reporting purposes. In FY 2008, all States and Territories will be encouraged to submit State plans using WebBGAS. Other advantages to using WebBGAS include:

• Eliminating redundancy in data entry by pre-populating the States' previous year data in the current year's plans and implementation reports.

• Standardizing Mental Health Block Grant data for reporting and quantitative analysis.

• Allowing the States' mental health planning councils to have access to state plans and implementation reports throughout the FY as a means to enable councils to meet their Federal mandate of reviewing the plans and providing recommendations to the State.

• Adhering to the Federal government's e-governments and e-grants initiatives, where applicable.

(3) A requirement for States to report nine CMHS National Outcome Measures (NOMS) for mental health. All nine measures are derived from tables in the Uniform Reporting System (URS) which was developed in collaboration with the States. Four (4) of the nine measures were established, in concert with OMB PART, to support the long-term goals of the Mental Health Block Grant program and SAMHSA's Government Results and Performance Act (GPRA) measures. The nine CMHS measures are:

• Increased access to services.

• Reduced utilization of psychiatric inpatient beds for 30 and 180 days.

• Number of evidenced-based practices and number of persons served in these programs.

• Client perception of care.

• Increased/retained employment or returned to/stayed in school.

• Decreased criminal justice involvement.

• Increased stability in housing.

• Increased social supports and social connectedness, and

• Improved level of functioning.

Two of the NOMS, Increased Social Supports and Social Connectedness, and Improved Functioning, are currently under development at SAMHSA. States that are unable to report data on these or other indicators will be required to describe their current reporting capacity and efforts underway to make collection of the data possible. (4) Revisions to tables in the Uniform Reporting System (URS). Since FY 2001, States have reported annual data on the public mental health system to the MHBG Program through 21 tables in the URS. For the past three years, CMHS worked collaboratively with States, using the Data Infrastructure Grant (DIG) process, to refine the data and make reporting more meaningful to both States and CMHS. This effort resulted in a list of revisions to the basic and developmental tables in the FY 2005-2007 MHBG guidance. The revisions to the URS tables are described below:

Revisions to Tables in the Uniform Reporting System
Table Description: Table No. | Table Description: Table name | Table Description: Change | Table Description: Proposed change
Table 1 | Profile of State Population by Diagnosis | No Change
Table 2 | Total Unduplicated Served by Age, Gender, & Race | Minor | Combine Age 0-3 with Age 4-12.
Table 3 | Total Served by Setting, by Age & Gender | No Change
Table 4 | Employment | Minor | Add Optional Table 4a. Reporting of Employment Status by 5 Diagnostic Groupings.
Table 5 | Medicaid Status | No Change
Table 6 | Profile of Client Flow and Turnover | Minor | Add Column for Length of Stay for clients in facility more than 1 year.
Table 7 | State MH Expenditures and Revenues | No Change
Table 8 | Profile of Community MHBG Expenditures | No Change
Table 9 | Public Mental Health Service System Inventory List (Deleted in 2005) | Major | New table added, “Social Connectedness and Improved Functioning” for SAMHSA's newest NOMS.
Table 10 | Profile of Agencies receiving MHBG Funds | No Change
Table 11 | Consumer Evaluation of Care* | Minor | Add revisions to table and questions to clarify the survey instrument and methodology used to collect data for this domain if the recommended survey was not used.
Table 12 | State Mental Health Agency Profile | No Change
Table 13 | Untreated Prevalence of Mental Illness | No Change | Continue as developmental until refined by DIG Workgroup.
Table 14 | Adults with SMI & SED served by Age, gender, Race, & Ethnicity | Minor | Combine Age 0-3 with Age 4-12.
Table 15 | Living Situation Profile | No Change
Table 16 | EBPs | Minor | Add two questions at the end of each EBP: (1) Did the State use the SAMHSA Toolkit to guide implementation? (2) Has staff been specifically trained to implement the EBP?
Table 17 | EBPs | Minor | Add two questions at the end of each EBP: (1) Did the State use the SAMHSA Toolkit to guide implementation? (2) Has staff been specifically trained to implement the EBP?
Table 18 | Use of New Generation Atypical Antipsychotics | No Change
Table 19 | Outcomes: Criminal Justice & School Attendance | Minor | Add new questions for two CMHS NOMS: Arrests, and School Attendance.
Table 20 | 30 and 180 day state hospital readmissions | Minor | Combine Age 0-3 with Age 4-12.
Table 21 | 30 and 180 day readmission to any psych bed | Minor | Combine Age 0-3 with Age 4-12.

The future of the SAMHSA/CMHS State mental health data reporting program continues to evolve with a related plan to implement a State Client Level Initiative project with a few States to test the feasibility of implementing client level reporting in the States. Activities of this pilot in the next three years will include: (1) Identifying and documenting the States' most promising approaches to the collection of client-level data; (2) developing recommendations for expanding client-level data collection systems to incorporate the NOMs; and (3) pilot testing the most promising approaches with other interested States to determine their feasibility.

The following table summarizes the annual burden for the revised application.

Part of application | Number of responses | Responses/ respondent | Burden response (hrs) | Total burden hours
Plan—(Parts B and C) | 30 | 1 | 180 | 5,400
1 year |  |  |  |
2 year | 4 | 1 | 150 | 600
3 year | 25 | 1 | 110 | 2,750
Implementation Report (Part D) | 59 | 1 | 80 | 4,720
Data Tables (Part E) | 59 | 1 | 40 | 2,360
Total | 59 |  |  | 15,830

Send comments to Summer King, SAMHSA Reports Clearance Officer, Room 7-1044, One Choke Cherry Road, Rockville, MD 20857. Written comments should be received within 60 days of this notice.

Dated: March 23, 2007.
Elaine Parry,
Acting Director, Office of Program Services.

[FR Doc. E7-5796 Filed 3-28-07; 8:45 am]

BILLING CODE 4162-20-P